DEPARTMENT OF THE TREASURY

Departmental Offices; Proposed Collections; Comment Requests

ACTION: Notice and request for comments.

SUMMARY: The Department of the Treasury, as part of its continuing effort to reduce paperwork burdens, invites the general public and other Federal agencies to comment on two information collections that are due for renewed approval by the Office of Management and Budget. The Office of International Financial Analysis within the Department of the Treasury is soliciting comments concerning Treasury International Capital Form BL-3, Intermediary's Notification of Foreign Borrowing Denominated in Dollars; and Treasury International Capital Form CM, Dollar Deposit and Certificate of Deposit Claims on Banks Abroad.

DATES: Written comments should be received on or before December 29, 2000, to be assured of consideration.

ADDRESSES: Direct all written comments to Dwight Wolkow, Administrator, International Portfolio Investment Data Reporting Systems, Department of the Treasury, Room 5205 MT, 1500 Pennsylvania Avenue, NW, Washington, DC 20220.

FOR FURTHER INFORMATION CONTACT: Requests for additional information or copies of the forms and instructions should be directed to Dwight Wolkow, Administrator, International Portfolio Investment Data Systems, Department of the Treasury, Room 5205 MT, 1500 Pennsylvania Avenue, NW, Washington, DC 20220, Ph: (202) 622-1276, Fax (202) 622-7448.

SUPPLEMENTARY INFORMATION: Titles: Treasury International Capital Form BL-3, Intermediary's Notification of Foreign Borrowing Denominated in Dollars; and Treasury International Capital Form CM, Dollar Deposit and Certificate of Deposit Claims on Banks Abroad.

OMB Numbers: 1505-0088 and 1505-0023.

Abstracts: Forms BL-3 and CM are part of the Treasury International Capital (TIC) reporting system, which is required by law (22 U.S.C. 286f; 22 U.S.C. 3103; EO 10033; 31 CFR 128), and are designed to collect timely information on international portfolio capital movements. Form BL-3 is a monthly report used to strengthen compliance with existing TIC reporting requirements, whereby a U.S. bank advises its domestic nonbank customers of their responsibilities to report as liabilities on TIC Form CQ-1 their loans from foreigners that the bank will not include among its reportable custody liabilities to foreigners on TIC Form BL-2. Form CM is a monthly report whereby nonbanking enterprises in the U.S. report their total dollar deposit and certificate of deposit claims on foreign banks. This information is necessary for compiling the U.S. balance of payments accounts, for calculating the U.S. international investment position, and for use in formulating U.S. international financial and monetary policies.

Current Actions: No changes to reporting requirements for either form are proposed at this time.

Type of Review: Extensions.

Affected Public: Business or other for-profit organizations.

Form BL-3 (1505-0088).

Estimated Number of Respondents: 25.

Estimated Average Time per Respondent: 30 minutes per respondent per filing.

Estimated Total Annual Burden Hours: 150 hours, based on twelve reporting periods per year.

Form CM (1505-0023).

Estimated Number of Respondents: 55

Estimated Average Time per Respondent: 30 minutes per respondent per filing.

Estimated Total Annual Burden Hours: 330 hours, based on twelve reporting periods per year.

Request for Comments

Comments submitted in response to this notice will be summarized and/or included in the requests for OMB approval. All comments will become a matter of public record. The public is invited to submit written comments concerning: whether Forms BL-3 and CM are necessary for the proper performance of the functions of the Office, including whether the information collected has practical uses; the accuracy of the above burden estimates; ways to enhance the quality, usefulness, and clarity of the information to be collected; ways to minimize the reporting and/or recordkeeping burdens on respondents, including the use of information technologies to automate the collection of the data; and estimates of capital or start-up costs of operation, maintenance, and purchases of services to provide information.

Dwight Wolkow,
Administrator, International Portfolio Investment Data Systems.

[FR Doc. 00-27709 Filed 10-27-00; 8:45 am]

BILLING CODE 4810-25-M